DEPARTMENT OF THE INTERIOR

Fish and Wildlife Service

Notice of Intent To Present for Public Review and Comment the Draft Comprehensive Conservation Plan for Bayou Cocodrie National Wildlife Refuge in Concordia Parish, Louisiana

SUMMARY: This notice advises the public that the U.S. Fish and Wildlife Service, Southeast Region, has made available for public review and comment the Draft Comprehensive Conservation Plan for Bayou Cocodrie National Wildlife Refuge. The Service plans to conduct an open house meeting at the refuge to solicit public comments on the draft plan. The Service is furnishing this notice in compliance with its comprehensive conservation planning policy, the National Environmental Policy Act, and implementing regulations to achieve the following:

(1) Advise other agencies and the public of our intentions, and

(2) Obtain comments on the proposed plan and other alternatives considered in the planning process.

DATES: The Service will hold the open house meeting on June 28, 2001, from 2:00 p.m. until 7:00 p.m. at the refuge headquarters on Poole Road, in Ferriday, Louisiana.

ADDRESSES: Comments and requests for copies of the draft plan should be addressed to Mr. Mike Esters, Refuge Manager, Bayou Cocodrie National Wildlife Refuge, P.O. Box 1772, Ferriday, Louisiana 71334, or by calling (318) 336-7119. Comments must be received by August 13, 2001, to be considered in the development of the final plan. Information concerning the refuge may be found at the following website: http://bayoucocodrie.fws.gov/.

If you wish to comment, you may submit your comments by any one of several methods. You may mail comments to the above address. You may also comment via the Internet to the following address: Mike_Esters@fws.gov. Please submit Internet comments as an ASCII file avoiding the use of special characters and any form of encryption. Please also include your name and return address in your Internet message. If you do not receive a confirmation from the system that we have received your Internet message, contact us directly at Bayou Cocodrie National Wildlife Refuge at the above address. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

SUPPLEMENTARY INFORMATION: Congress authorized the establishment of Bayou Cocodrie National Wildlife Refuge on November 16, 1990, to protect some of the last remaining, least disturbed bottomland hardwoods in the Lower Mississippi Valley.

Dated: June 12, 2001.
H. Dale Hall,
Acting Regional Director.

[FR Doc. 01-15971 Filed 6-25-01; 8:45 am]

BILLING CODE 4310-55-M